COMMISSION ON CIVIL RIGHTS

Agenda and Notice of Public Meeting of the Wyoming Advisory Committee

Notice is hereby given, pursuant to the provisions of the rules and regulations of the U.S. Commission on Civil Rights, that a meeting of the Wyoming Advisory Committee to the Commission will convene at 6 p.m. and recess at 8 p.m. on Wednesday, April 18, 2001, at the Holiday Inn Riverton Convention Center, 900 E. Sunset, Riverton, Wyoming 82501. The purpose of the meeting is to: (1) Discuss civil rights issues in the State, (2) plan future activities, and (3) brief the Committee on the community forum format. The Committee will reconvene at 9 a.m. and adjourn at 6 p.m. on Thursday, April 19, 2001, at the same location. The purpose of the meeting is to hold a community forum on: “Education Issues Affecting Minority and At-Risk Students in Wyoming Public Secondary Schools.”

Persons desiring additional information, or planning a presentation to the Committee, should contact John Dulles, Director of the Rocky Mountain Regional Office, 303-866-1040 (TDD 303-866-1049). Hearing-impaired persons who will attend the meeting and require the services of a sign language interpreter should contact the Regional Office at least ten (10) working days before the scheduled date of the meeting.

The meeting will be conducted pursuant to the provisions of the rules and regulations of the Commission.

Dated at Washington, DC, March 30, 2001.
Edward A. Hailes, Jr.,
General Counsel.

[FR Doc. 01-8516 Filed 4-5-01; 8:45 am]

BILLING CODE 6335-01-P